DEPARTMENT OF ENERGY

Federal Energy Regulatory Commission

[Docket No. RP03-481-001]

Transwestern Pipeline Company; Notice of Compliance Filing

July 1, 2003.

Take notice that on June 26, 2003, Transwestern Pipeline Company (Transwestern) tendered for filing as part of its FERC Gas Tariff, Second Revised Volume No. 1, Fifth Revised Sheet No. 5C, to become effective May 1, 2003.

Transwestern states that Transwestern and Unocal Keystone Gas Storage, LLC (Unocal) entered into an Operator Balancing Agreement (Unocal OBA) that contained several provisions that were supplemental to the form of operator balancing agreement (OBA) set forth in Transwestern's tariff. Transwestern states that on May 23, 2003, in accordance with Section 15.5 of the General Terms and Conditions of Transwestern's tariff, Transwestern filed with the Commission those supplemental provisions. On June 17, 2003, the Commission issued an Order Accepting Operational Balancing Agreement Subject to Condition (Order). The Order directed Transwestern to file within 10 days of the Order date a tariff sheet listing the Unocal OBA as non-conforming. Transwestern states that the instant filing adds the Unocal OBA to the non-conforming service agreements list contained in the Transwestern tariff.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 8, 2003.

Magalie R. Salas,
Secretary.

[FR Doc. 03-17296 Filed 7-8-03; 8:45 am]

BILLING CODE 6717-01-P